DEPARTMENT OF THE INTERIOR

Bureau of Land Management

[OR-110-0777-30-24-1A; HAG0-0294]

Interim Travel Restrictions to Motorized and Mechanized Vehicles in the Cascade-Siskiyou National Monument, Oregon

AGENCY: Bureau of Land Management.

ACTION: Notice of travel restrictions to motorized and mechanized vehicles in the Cascade-Siskiyou National Monument, Oregon.

SUMMARY: Notice is hereby given that all motorized and mechanized travel is prohibited on specific roads in the recently established Cascade-Siskiyou National Monument. The affected land is located southeast of Ashland, Oregon in Jackson County.

This prohibition includes the following roads and road segments:

The Schoheim Road (#41-2E-10.1). The Randcore Pass Road­(#40-4E-19.2) past the junction with road #40-4E-31.0. The Skookum Creek Road (#s 40-3E-28 and 40-3E-27.2) past the junction with road #40-3E-27.1. Road # 41-2E-3.0 past the point where it crosses the Pacific Crest National Scenic Trail. Road # 41-2E-9.0 past the barricade in T. 41 S., 2 E., Section 9, SW¼NW¼. The Lone Pine Ridge Road (#41-3E-31) past the block in T. 40 S., R. 3 E., Section 31. An unnumbered road which crosses the Oregon-California border, at the south section line between Section 7 and 18, T. 41 S., R. 4 E. T41 S., R. 4E. An numbered road which crosses the Oregon-California border, at the south section line of Section 13, T. 41 S., 2 E.

This action is in accordance with the Presidential Proclamation dated June 9, 2000, which closed the Schoheim Road and directed the Secretary of the Interior to prepare a management plan that includes appropriate transportation planning that addressed the actions, including road closures or travel restrictions, necessary to protect the objects identified in the proclamation.

EFFECTIVE DATES: The prohibition will become effective upon the publication of this notice in the Federal Register and will remain in effect until completion of the Cascade-Siskiyou National Monument management plan. The planning process may result in a decision to maintain or modify this prohibition.

SUPPLEMENTARY INFORMATION: Persons who are exempt from the prohibition include (1) Any federal, state, or local officers engaged in fire, emergency and law enforcement activities; (2) BLM employees engaged in official duties; (3) Persons authorized to travel on designated routes by the Ashland Field Office Manager.

Penalties: Any person who fails to comply with provisions of this order may be subject to penalties outlined in 43 CFR 8360.0-7.

FOR FURTHER INFORMATION CONTACT: Richard J. Drehobl, Field Manager, Bureau of Land Management, Ashland Field Office, 3040 Biddle Road, Medford, Oregon 97504; Telephone (541) 618-2331.

Dated: July 24, 2000.
Richard J. Drehobl,
Field Manager, Ashland Field Office.

[FR Doc. 00-19660 Filed 8-2-00; 8:45 am]

BILLING CODE 4310-33-M